SMALL BUSINESS ADMINISTRATION

[Disaster Declaration #11306 and #11307]

Illinois Disaster Number IL-00015

AGENCY: U.S. Small Business Administration.

ACTION: Amendment 1.

SUMMARY: This is an amendment of the Presidential declaration of a major disaster for the State of Illinois (FEMA-1771-DR), dated 06/25/2008.

Incident: Severe Storms, and Flooding.

Incident Period: 06/01/2008 and continuing.

Effective Date: 07/03/2008.

Physical Loan Application Deadline Date: 08/25/2008.

EIDL Loan Application Deadline Date: 03/23/2009.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of Illinois, dated 06/25/2008 is hereby amended to include the following areas as adversely affected by the disaster:

Primary Counties: (Physical Damage and Economic Injury Loans):

Calhoun, Jersey, Rock Island, Whiteside.

Contiguous Counties: (Economic Injury Loans Only):

Illinois: Bureau, Carroll, Greene, Lee, Macoupin, Madison.

Iowa: Clinton, Muscatine, Scott.

Missouri: Lincoln, Pike, Saint Charles.

All other information in the original declaration remains unchanged.

(Catalog of Federal Domestic Assistance Numbers 59002 and 59008)

Herbert L. Mitchell,
Associate Administrator for Disaster Assistance.

[FR Doc. E8-15979 Filed 7-11-08; 8:45 am]

BILLING CODE 8025-01-P